DEPARTMENT OF ENERGY

Federal Energy Regulatory Commission

Combined Notice of Filings # 1

September 8, 2010.

Take notice that the Commission received the following exempt wholesale generator filings:

Docket Numbers: EG10-65-000

Applicants: Top of the World Wind Energy, LLC

Description: Application of Top of the World Wind Energy, LLC for Exempt Wholesale Generator status.

Filed Date: 09/07/2010

Accession Number: 20100907-5157

Comment Date: 5 p.m. Eastern Time on Tuesday, September 28, 2010.

Docket Numbers: EG10-66-000

Applicants: Kit Carson Windpower, LLC

Description: Application of Kit Carson Windpower, LLC for Exempt Wholesale Generator status.

Filed Date: 09/07/2010

Accession Number: 20100907-5158

Comment Date: 5 p.m. Eastern Time on Tuesday, September 28, 2010.

Take notice that the Commission received the following electric rate filings:

Docket Numbers: ER10-1520-001

Applicants: Occidental Power Services, Inc.

Description: Occidental Power Services, Inc. submits tariff filing per 35: Change in Status to be effective9/8/2010.

Filed Date: 09/07/2010

Accession Number: 20100907-5132

Comment Date: 5 p.m. Eastern Time on Tuesday, September 28, 2010.

Docket Numbers: ER10-1521-001

Applicants: Occidental Power Marketing, L.P.

Description: Occidental Power Marketing, L.P. submits tariff filing per 35: Change in Status to be effective9/8/2010.

Filed Date: 09/07/2010

Accession Number: 20100907-5125

Comment Date: 5 p.m. Eastern Time on Tuesday, September 28, 2010.

Docket Numbers: ER10-1522-001

Applicants: Occidental Chemical Corporation

Description: Notice of Change in Status of Occidental Chemical Corporation.

Filed Date: 09/07/2010

Accession Number: 20100907-5159

Comment Date: 5 p.m. Eastern Time on Tuesday, September 28, 2010.

Docket Numbers: ER10-1580-002

Applicants: Saguaro Power Company LP

Description: Saguaro Power Company LP submits tariff filing per 35: Saguaro Power—FERC Electric Tariff Compliance Filing to be effective9/8/2010.

Filed Date: 09/08/2010

Accession Number: 20100908-5038

Comment Date: 5 p.m. Eastern Time on Wednesday, September 29, 2010.

Docket Numbers: ER10-1581-002

Applicants: Long Beach Peakers LLC

Description: Long Beach Peakers LLC submits tariff filing per 35: Long Beach Peakers FERC Electric Tariff Compliance Filing to be effective9/8/2010.

Filed Date: 09/08/2010

Accession Number: 20100908-5037

Comment Date: 5 p.m. Eastern Time on Wednesday, September 29, 2010.

Docket Numbers: ER10-1674-001

Applicants: Deseret Generation & Transmission Co-op

Description: Deseret Generation & Transmission Co-operative, Inc. submits tariff filing per 35: Triennial Market Power Update to be effective 7/1/2010.

Filed Date: 09/08/2010

Accession Number: 20100908-5074

Comment Date: 5 p.m. Eastern Time on Wednesday, September 29, 2010.

Docket Numbers: ER10-2552-000

Applicants: Southern California Edison Company

Description: Southern California Edison Company submits their Amended Interconnection Facilities Agreement with the City of Riverside, First Revised Service Agreement No 59, to be effective 11/8/2010.

Filed Date: 09/08/2010

Accession Number: 20100908-5001

Comment Date: 5 p.m. Eastern Time on Wednesday, September 29, 2010.

Docket Numbers: ER10-2553-000

Applicants: Black Hills Power, Inc.

Description: Black Hills Power, Inc. submits tariff filing per 35.12: Gen Dispatch and Energy Mgmt Agmt between Black Hills Power and Gillette, Wy to be effective 9/9/2010.

Filed Date: 09/08/2010

Accession Number: 20100908-5055

Comment Date: 5 p.m. Eastern Time on Wednesday, September 29, 2010.

Docket Numbers: ER10-2554-000

Applicants: Midwest Independent Transmission System Operator, Inc.

Description: Midwest Independent Transmission System Operator, Inc. submits tariff filing per 35.13(a)(2)(iii): G477 Termination to be effective11/8/2010.

Filed Date: 09/08/2010

Accession Number: 20100908-5073

Comment Date: 5 p.m. Eastern Time on Wednesday, September 29, 2010.

Docket Numbers: ER10-2555-000

Applicants: Green Mountain Energy Company

Description: Green Mountain Energy Company submits tariff filing per 35.12: Baseline Tariff Filing to be effective9/8/2010.

Filed Date: 09/08/2010

Accession Number: 20100908-5075

Comment Date: 5 p.m. Eastern Time on Wednesday, September 29, 2010.

Docket Numbers: ER10-2557-000

Applicants: Cleco Power LLC

Description: Cleco Power LLC submits tariff filing per 35.12: LEPA SA 92/93 to be effective 9/8/2010.

Filed Date: 09/08/2010

Accession Number: 20100908-5087

Comment Date: 5 p.m. Eastern Time on Wednesday, September 29, 2010.

Docket Numbers: ER10-2558-000

Applicants: Caithness Long Island, LLC

Description: Caithness Long Island, LLC submits tariff filing per 35.12: Caithness Long Island, LLC MBR Tariff to be effective 9/8/2010.

Filed Date: 09/08/2010

Accession Number: 20100908-5091

Comment Date: 5 p.m. Eastern Time on Wednesday, September 29, 2010.

Docket Numbers: ER10-2559-000

Applicants: Cleco Power LLC

Description: Cleco Power LLC submits tariff filing per 35.15: LEPA SA92/93 Termination to be effective 9/8/2010.

Filed Date: 09/08/2010

Accession Number: 20100908-5092

Comment Date: 5 p.m. Eastern Time on Wednesday, September 29, 2010.

Docket Numbers: ER10-2560-000

Applicants: California Independent System Operator Corporation

Description: California Independent System Operator Corporation submits tariff filing per 35: 2010-09-08 CAISO Multi-Stage Generation Resource Compliance to be effective 8/2/2010.

Filed Date: 09/08/2010

Accession Number: 20100908-5094

Comment Date: 5 p.m. Eastern Time on Wednesday, September 29, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-22950 Filed 9-14-10; 8:45 am]

BILLING CODE 6717-01-P